DEPARTMENT OF COMMERCE

Foreign-Trade Zones Board

[Docket 28-2003]

Foreign-Trade Zone 151—Findlay, OH; Application for Expansion

An application has been submitted to the Foreign-Trade Zones (FTZ) Board (the Board), by the Findlay Hancock Chamber of Commerce (FHCOC), grantee of Foreign-Trade Zone 151, requesting authority to expand its zone in Findlay, Ohio, within the Toledo Customs port of entry. The application was submitted pursuant to the provisions of the Foreign-Trade Zones Act, as amended (19 U.S.C. 81a-81u), and the regulations of the Board (15 CFR part 400). It was formally filed on June 10, 2003.

FTZ 151 was approved on July 6, 1988 (Board Order 389, 53 FR 27058, 7/18/88) and expanded on February 10, 1999 (Board Order 1023, 64 FR 8542, 2/22/99). The general-purpose zone currently consists of two sites (921 acres) in Findlay (Hancock County): Site 1 (820 acres)—Tall Timbers Industrial Center located at the intersection of State Route 12 and County Road 95; and, Site 2 (101 acres, 2 parcels)—Ball Metal Container Group general-purpose warehouse facility located at 12340 Township Road 99 East and a warehouse facility located on County Road 95 (expires 6/30/2004). In a separate pending application (FTZ Doc. 13-03), the grantee has requested an indefinite extension of authority for Site 2.

The applicant is now requesting authority to expand the zone to include an additional site: Proposed Site 3 (373 acres) within the 398-acre Ottawa Industrial Park, located at the intersection of Williamstown Street and Sugarmill Drive in Ottawa (Putnam County). The site will provide public warehousing and distribution services to area businesses. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue, NW., Washington, DC 20230.

The closing period for their receipt is August 18, 2003. Rebuttal comments in response to material submitted during the foregoing period may be submitted during the subsequent 15-day period (to September 1, 2003).

A copy of the application and accompanying exhibits will be available for public inspection at the Office of the Foreign-Trade Zones Board's Executive Secretary at the first address listed above, and at the Office of the Findlay/Hancock County Chamber of Commerce, 123 E. Main Cross Street, Findlay, Ohio 45840.

Dated: June 10, 2003.
Dennis Puccinelli,
Executive Secretary.

[FR Doc. 03-15291 Filed 6-16-03; 8:45 am]

BILLING CODE 3510-DS-P